POSTAL SERVICE

39 CFR Part 111

New Mailing Standards for Mailpieces Containing Liquids: Extension of Comment Period

AGENCY: Postal Service ™.

ACTION: Proposed rule; extension of comment period.

SUMMARY: On July 9, 2018, the United States Postal Service (USPS®) published a Federal Register proposed rule titled, “New Mailing Standards for Mailpieces Containing Liquids.” The USPS has received several requests to extend the comment period for this proposed rule and is, accordingly, extending the comment period scheduled to close on August 8, 2018, until September 30, 2018.

DATES: Submit comments on or before September 30, 2018.

ADDRESSES: Mail or deliver written comments to the manager, Product Classification, U.S. Postal Service, 475 L'Enfant Plaza SW, Room 4446, Washington, DC 20260-5015. If sending comments by email, include the name and address of the commenter and send to ProductClassification@usps.gov, with a subject line of “New Standards for Liquids.” Faxed comments are not accepted.

You may inspect and photocopy all written comments, by appointment only, at USPS Headquarters Library, 475 L'Enfant Plaza SW, 11th Floor North, Washington, DC 20260. These records are available for review on Monday through Friday, 9 a.m.-4 p.m., by calling 202-268-2906.

FOR FURTHER INFORMATION CONTACT: Direct questions to Wm. Kevin Gunther at wkgunther@uspis.gov or phone at (202) 268-7208, or Michelle Lassiter at michelle.d.lassiter@usps.gov or phone at (202) 268-2914.

SUPPLEMENTARY INFORMATION: This document extends the public comment period for the proposed rule entitled “New Mailing Standards for Mailpieces Containing Liquids,” published in the Federal Register On July 9, 2018. USPS is extending the comment period to ensure that the public has sufficient time to review and comment on the proposal. USPS is proposing this rule under the authorities listed in the July 9th document. Further information on this proposal may be found in the USPS notice published in the Federal Register on July 9, 2018 (83 FR 31712).

USPS solicits comments on all aspects of the proposal and specifically on recommendations that reflect industry best practices for shipping liquids.

Ruth Stevenson,
Attorney, Federal Compliance.

[FR Doc. 2018-15548 Filed 7-19-18; 8:45 am]

BILLING CODE 7710-12-P